DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual Regulatory Agenda.

SUMMARY: This agenda provides summary descriptions of regulations being developed by the Civilian Agency Acquisition Council and the Defense Acquisition Regulations Council in compliance with Executive Order 12866 “Regulatory Planning and Review,” as reaffirmed and amended in Executive Order 13563, “Improving Regulation and Regulatory Review,” and Executive Order 14094, “Modernizing Regulatory Review.”

This agenda is being published to allow interested persons an opportunity to participate in the rulemaking process. Additionally, members of the public can track the progress of any open and pending FAR rule via the “Open FAR Cases” report, which is publicly available at https://www.acq.osd.mil/dpap/dars/far_case_status.html.

The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking website at https://www.regulations.gov.

FOR FURTHER INFORMATION CONTACT: Lois Mandell, Division Director, Regulatory Secretariat Division, 1800 F Street NW, 7th Floor, Washington, DC 20405-0001, 202-501-4755 or by email at lois.mandell@gsa.gov.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR website at https://www.acquisition.gov/far.

William F. Clark,
Director, Office of Government-wide Acquisition Policy, Office of Acquisition Policy, Office of Government-wide Policy.

DOD/GSA/NASA (FAR)—Prerule Stage
Sequence No. | Title | Regulation Identifier No.
468 | Federal Acquisition Regulation (FAR); FAR Case 2023-008, Prohibition on Certain Semiconductor Products and Services | 9000-AO56

DOD/GSA/NASA (FAR)—Proposed Rule Stage
Sequence No. | Title | Regulation Identifier No.
469 | Federal Acquisition Regulation (FAR); FAR Case 2017-016, Controlled Unclassified Information (CUI) | 9000-AN56
470 | Federal Acquisition Regulation (FAR); FAR Case 2019-015, Improving Consistency Between Procurement & Nonprocurement Procedures on Suspension and Debarment | 9000-AN98
471 | Federal Acquisition Regulation (FAR); FAR Case 2019-018, Federal Acquisition Supply Chain Security Act of 2018 | 9000-AO01
472 | Federal Acquisition Regulation (FAR); FAR Case 2020-016, Rerepresentation of Size and Socioeconomic Status | 9000-AO18
473 | Federal Acquisition Regulation (FAR); FAR Case 2021-001, Increased Efficiencies With Regard to Certified Mail, In-Person Business, Mail, Notarization, Original Documents, Seals, and Signatures | 9000-AO19
474 | FAR Acquisition Regulation (FAR); FAR Case 2021-005; Disclosure of Beneficial Owner in Federal Contracting | 9000-AO23
475 | Federal Acquisition Regulation (FAR); FAR Case 2021-009, Protests of Orders Set Aside for Small Business | 9000-AO26
476 | Federal Acquisition Regulation (FAR); FAR Case 2021-011, Past Performance Ratings for Small Business Joint Venture Members and Small Business First-Tier Subcontractors | 9000-AO28
477 | Federal Acquisition Regulation (FAR); FAR Case 2021-016, Minimizing the Risk of Climate Change in Federal Acquisitions | 9000-AO33
478 | Federal Acquisition Regulation (FAR); FAR Case 2021-017, Cyber Threat and Incident Reporting and Information Sharing | 9000-AO34
479 | Federal Acquisition Regulation (FAR); FAR Case 2021-019, Standardizing Cybersecurity Requirements for Unclassified Information Systems | 9000-AO35
480 | Federal Acquisition Regulations (FAR); FAR Case 2021-020, Limitations on Subcontracting | 9000-AO36
481 | Federal Acquisition Regulation (FAR); FAR Case 2022-004, Enhanced Price Preferences for Critical Items | 9000-AO41
482 | Federal Acquisition Regulation (FAR); FAR Case 2022-009, Certification of Service-Disabled Veteran-Owned Small Businesses | 9000-AO46
483 | Federal Acquisition Regulation (FAR); FAR Case 2023-002, Supply Chain Software Security | 9000-AO49
484 | Federal Acquisition Regulation (FAR); FAR Case 2023-001, Subcontracting to Puerto Rican and Covered Territory Small Businesses | 9000-AO50
485 | Federal Acquisition Regulation (FAR); FAR CASE 2023-003, Prohibition on the Use of Reverse Auctions for Complex, Specialized, or Substantial Design and Construction Services | 9000-AO51
486 | Federal Acquisition Regulation (FAR); FAR Case 2023-006, Preventing Organizational Conflicts of Interest in Federal Acquisition | 9000-AO54
487 | Federal Acquisition Regulation (FAR); FAR Case 2023-016, Subcontracting Plans and Limitations on Subcontracting | 9000-AO60
488 | Federal Acquisition Regulation (FAR); FAR Case 2023-017, Consolidation and Bundling | 9000-AO61
489 | Federal Acquisition Regulation (FAR); FAR Case 2023-013, HUBZone Program | 9000-AO63
490 | Federal Acquisition Regulation (FAR); FAR Case 2023-015, Policy on Joint Ventures | 9000-AO64
491 | Federal Acquisition Regulation (FAR); FAR Case 2023-014, Small Business Protests | 9000-AO65

DOD/GSA/NASA (FAR)—Final Rule Stage
Sequence No. | Title | Regulation Identifier No.
492 | FAR Acquisition Regulation (FAR); FAR Case 2015-038, Reverse Auction Guidance | 9000-AN31
493 | Federal Acquisition Regulation (FAR); FAR Case 2018-017, Prohibition on Certain Telecommunications and Video Surveillance Services or Equipment | 9000-AN83
494 | Federal Acquisition Regulation (FAR); FAR Case 2019-009, Prohibition on Contracting With Entities Using Certain Telecommunications and Video Surveillance Services or Equipment | 9000-AN92
495 | Federal Acquisition Regulation (FAR); FAR Case 2020-005, Explanations to Unsuccessful Offerors on Certain Orders Under Task and Delivery Order Contracts | 9000-AO08
496 | Federal Acquisition Regulation (FAR); FAR Case 2020-010, Small Business Innovation Research and Technology Transfer Programs | 9000-AO12
497 | Federal Acquisition Regulation (FAR); FAR 2020-011, Implementation of Federal Acquisition Supply Chain Security Act (FASCSA) Exclusion Orders | 9000-AO13
498 | Federal Acquisition Regulation (FAR); FAR Case 2021-014, Increasing the Minimum Wage for Contractors | 9000-AO31
499 | Federal Acquisition Regulation (FAR); FAR Case 2021-015, Disclosure of Greenhouse Gas Emissions and Climate-Related Financial Risk | 9000-AO32
500 | Federal Acquisition Regulation (FAR); FAR Case 2022-003, Use of Project Labor Agreement for Federal Construction Projects | 9000-AO40
501 | Federal Acquisition Regulation (FAR); FAR Case 2022-006, Sustainable Procurement | 9000-AO43
502 | Federal Acquisition Regulation (FAR): FAR Case 2022-011, Nondisplacement of Qualified Workers Under Service Contracts | 9000-AO48
503 | FAR Case 2023-010, Prohibition on a ByteDance Covered Application | 9000-AO58

DOD/GSA/NASA (FAR)—Long-Term Actions
Sequence No. | Title | Regulation Identifier No.
504 | Federal Acquisition Regulation (FAR); FAR Case 2018-013, Exemption of Commercial and COTS Item Contracts From Certain Laws and Regulations | 9000-AN72
505 | Federal Acquisitions Regulation (FAR); FAR Case 2021-013, Access to Past Performance Information | 9000-AO30

DOD/GSA/NASA (FAR)—Completed Actions
Sequence No. | Title | Regulation Identifier No.
506 | Federal Acquisition Regulation (FAR); FAR Case 2017-005, Whistleblower Protection for Contractor Employees | 9000-AN32
507 | Federal Acquisition Regulation (FAR); FAR Case 2017-014, Use of Acquisition 360 to Encourage Vendor Feedback | 9000-AN43
508 | Federal Acquisition Regulation (FAR); FAR Case 2018-024; Use of Interagency Fleet Management System Vehicles and Related Services | 9000-AN82
509 | Federal Acquisition Regulation (FAR); FAR Case 2021-012, 8(a) Program | 9000-AO29

DEPARTMENT OF DEFENSE/GENERAL SERVICES ADMINISTRATION/NATIONAL AERONAUTICS AND SPACE ADMINISTRATION (FAR)

Prerule Stage

468. Federal Acquisition Regulation (FAR); FAR Case 2023-008, Prohibition on Certain Semiconductor Products and Services [9000-AO56]

Legal Authority: 40 U.S.C. 121(c); 10 U.S.C. ch. 4; 10 U.S.C. ch. 137 legacy provisions; 10 U.S.C. 3016; 51 U.S.C. 20113

Abstract: This rule will prohibit agencies from: (1) procuring or obtaining, or extending or renewing a contract to procure or obtain, any electronic parts, products, or services that include covered semiconductor products or services; or (2) entering into a contract, or extending or renewing a contract, with an entity to procure or obtain electronic parts or products that include covered semiconductor products or services. This rule is issued pursuant to section 5949(a) of the National Defense Authorization Act for Fiscal Year 2023.

Timetable:

Action | Date | FR Cite
ANPRM | 11/00/23
ANPRM Comment Period End | 01/00/24

Regulatory Flexibility Analysis Required: Yes.

Agency Contact: Malissa Jones, Procurement Analyst, DOD/GSA/NASA (FAR), 1800 F Street NW, Washington, DC 20405, Phone: 571 882-4687, Email: malissa.jones@gsa.gov.

RIN: 9000-AO56

DEPARTMENT OF DEFENSE/GENERAL SERVICES ADMINISTRATION/NATIONAL AERONAUTICS AND SPACE ADMINISTRATION (FAR)

Proposed Rule Stage

469. Federal Acquisition Regulation (FAR); FAR Case 2017-016, Controlled Unclassified Information (CUI) [9000-AN56]

Legal Authority: 40 U.S.C. 121(c); 10 U.S.C. ch. 4; 10 U.S.C. ch. 137 legacy provisions; 10 U.S.C. 3016; 51 U.S.C. 20113

Abstract: This rule will apply the controlled unclassified information (CUI) program requirements in Federal contracts in a uniform manner to protect CUI. This rule is one element of a larger strategy to improve the Government's efforts to identify, deter, protect against, detect, and respond to increasing sophisticated threat actions targeting Federal contractors. This rule is being issued in accordance with the National Archives and Records Administration (NARA) regulations implementing the CUI program per Executive Order 13556 issued November 4, 2010, as implemented in NARA's implementing regulations.

Timetable:

Action | Date | FR Cite
Proposed Rule | 02/00/24
NPRM Comment Period End | 04/00/24

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN56

470. Federal Acquisition Regulation (FAR); FAR Case 2019-015, Improving Consistency Between Procurement & Nonprocurement Procedures on Suspension and Debarment [9000-AN98]

Legal Authority: 40 U.S.C. 121(c); 10 U.S.C. ch. 4; 10 U.S.C. ch. 137 legacy provisions; 10 U.S.C. 3016; 51 U.S.C. 20113

Abstract: This rule will bring the Federal Acquisition Regulation (FAR) and the Nonprocurement Common Rule (NCR) procedures on suspension and debarment into closer alignment, creating a more consistent experience for industry. The FAR covers procurement matters and the NCR covers other transactions, such as grants, cooperative agreements, contracts of assistance, loans and loan guarantees. The suspension and debarment procedures give Federal officials a discretionary means to exclude parties from participation in certain transactions, while affording those parties due process.

Timetable:

Action | Date | FR Cite
NPRM | 12/00/23
NPRM Comment Period End | 02/00/24

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AN98

471. Federal Acquisition Regulation (FAR); FAR Case 2019-018, Federal Acquisition Supply Chain Security Act of 2018 [9000-AO01]

Legal Authority: 40 U.S.C. 121(c); 10 U.S.C. ch. 4; 10 U.S.C. ch. 137 legacy provisions; 10 U.S.C. 3016; 51 U.S.C. 20113

Abstract: This rule will provide authorities to agencies for determining and mitigating supply chain risks in procurements involving controlled unclassified information, information technology, embedded information technology, and telecommunications. To mitigate supply chain risks, the law allows executive agencies to exclude sources or covered articles from any executive agency procurement action, including source selection and consent for a contractor to subcontract. This rule is being issued pursuant to 41 U.S.C. 4713 titled “Authorities relating to mitigating supply chain risks in the procurement of covered articles.”

Timetable:

Action | Date | FR Cite
NPRM | 08/00/24
NPRM Comment Period End | 10/00/24

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO01

472. Federal Acquisition Regulation (FAR); FAR Case 2020-016, Rerepresentation of Size and Socioeconomic Status [9000-AO18]

Legal Authority: 40 U.S.C. 121(c); 10 U.S.C. ch. 4; 10 U.S.C. ch. 137 legacy provisions; 10 U.S.C. 3016; 51 U.S.C. 20113

Abstract: This rule will require contractors to rerepresent its size and economic status for all set-aside orders issued under full and open multiple-award contracts. Additionally, rerepresentation is required for orders issued under a small business set-aside multiple-award contract where the orders are further set-aside exclusively for a particular socioeconomic category and the required socioeconomic status differs from the underlying multiple-award contract. Orders issued under any Federal Supply Schedule are exempt from the requirement to rerepresent size and or socioeconomic status. This rule is being issued in accordance with the Small Business Administration final rule published October 16, 2020 titled “Consolidation of Mentor-Protégé Programs and Other Government Contracting Amendments.”

Timetable:

Action | Date | FR Cite
NPRM | 09/29/23 | 88 FR 67189
NPRM Comment Period End | 11/28/23

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO18

473. Federal Acquisition Regulation (FAR); FAR Case 2021-001, Increased Efficiencies With Regard to Certified Mail, In-Person Business, Mail, Notarization, Original Documents, Seals, and Signatures [9000-AO19]

Legal Authority: 40 U.S.C. 121(c); 10 U.S.C. ch. 4; 10 U.S.C. ch. 137 legacy provisions; 10 U.S.C. 3016; 51 U.S.C. 20113

Abstract: This rule will streamline certain essential contracting procedures by increasing flexibilities and efficiencies with regards to certified mail, in-person business, mail, notarization, original documents, seals, and signatures using digital and virtual technology. This rule makes permanent policy flexibilities introduced during the pandemic.

Timetable:

Action | Date | FR Cite
NPRM | 06/00/24
NPRM Comment Period End | 08/00/24

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AO19

474. FAR Acquisition Regulation (FAR); FAR Case 2021-005; Disclosure of Beneficial Owner in Federal Contracting [9000-AO23]

Legal Authority: 40 U.S.C. 121(c); 10 U.S.C. ch. 4; 10 U.S.C. ch. 137 legacy provisions; 10 U.S.C. 3016; 51 U.S.C. 20113

Abstract: This rule will require certain offerors to disclose beneficial ownership information in their offers for contracts over the simplified acquisition threshold and for the Federal Awardee Performance and Integrity Information System to include identifying information on the beneficial owner of a Federal contractor that is a corporation. This rule is being issued in accordance with sections 885 and 6403 of the National Defense Authorization Act for Fiscal Year 2021.

Timetable:

Action | Date | FR Cite
NPRM | 04/00/24
NPRM Comment Period End | 06/00/24

Regulatory Flexibility Analysis Required: Yes.

Agency Contact: Zenaida Delgado, Procurement Analyst, DOD/GSA/NASA (FAR), 1800 F Street NW, Washington, DC 20405, Phone: 202 969-7207, Email: zenaida.delgado@gsa.gov.

RIN: 9000-AO23

475. Federal Acquisition Regulation (FAR); FAR Case 2021-009, Protests of Orders Set Aside for Small Business [9000-AO26]

Legal Authority: 40 U.S.C. 121(c); 10 U.S.C. ch. 4; 10 U.S.C. ch. 137 legacy provisions; 10 U.S.C. 3016; 51 U.S.C. 20113

Abstract: This rule will allow size protests on set-aside orders under multiple-award contracts that were not set-aside, and protests of socioeconomic status on set-aside orders where the required status differs from that of the underlying multiple-award contract. This rule also grants authority for SBA's Associate General Counsel for Procurement Law to initiate size protests. This rule is being issued in accordance with the Small Business Administration final rule published October 16, 2020.

Timetable:

Action | Date | FR Cite
NPRM | 10/03/23 | 88 FR 68067
NPRM Comment Period End | 12/04/23

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO26

476. Federal Acquisition Regulation (FAR); FAR Case 2021-011, Past Performance Ratings for Small Business Joint Venture Members and Small Business First-Tier Subcontractors [9000-AO28]

Legal Authority: 40 U.S.C. 121(c); 10 U.S.C. ch. 4; 10 U.S.C. ch. 137 legacy provisions; 10 U.S.C. 3016; 51 U.S.C. 20113

Abstract: This rule will permit small business offerors that served as first-tier subcontractors and joint venture members, in certain situations, to submit the past performance and experience gained under these arrangements with offers on Federal contracts. Contracting officers will be required to consider the capabilities and past performance provided by first-tier subcontractors and joint venture members in certain situations. This rule promotes equity in Federal procurement. This rule is being issued in accordance with section 868 of the National Defense Authorization Act for Fiscal Year 2021, as implemented in the Small Business Administration (SBA) final rule published on July 22, 2022 titled “Past Performance Ratings for Small Business Joint Venture Members and Small Business First-Tier Subcontractors;” and section 15 of the Small Business Act, as implemented in the SBA final rule on October 16, 2020 titled “Consolidation of Mentor-Protégé Programs and Other Government Contracting Amendments.”

Timetable:

Action | Date | FR Cite
NPRM Comment Period End | 05/00/24
NPRM | 07/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO28

477. Federal Acquisition Regulation (FAR); FAR Case 2021-016, Minimizing the Risk of Climate Change in Federal Acquisitions [9000-AO33]

Legal Authority: 40 U.S.C. 121(c); 10 U.S.C. ch. 4; 10 U.S.C. ch. 137 legacy provisions; 10 U.S.C. 3016; 51 U.S.C. 20113

Abstract: This rule will allow agencies to: (1) provide a preference for proposed solutions that have lower life-cycle greenhouse gas emissions; and (2) require a Federal contractor to identify and manage climate risks that may impact contract performance. This rule is being issued in accordance with section 5(b)(ii) of the Executive Order 14030 titled “Climate-Related Financial Risk.” DoD, GSA, and NASA published an advance notice of proposed rulemaking in October of 2021 seeking feedback from the public on ways in which the Government could consider greenhouse gas emissions and climate risks in Federal procurement. The feedback is being considered in the development of the proposed rule.

Timetable:

Action | Date | FR Cite
ANPRM | 10/15/21 | 86 FR 57404
Comment Period Extended | 12/07/21 | 86 FR 69218
ANPRM Comment Period End | 01/13/22
NPRM | 01/00/24
NPRM Comment Period End | 03/00/24

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO33

478. Federal Acquisition Regulation (FAR); FAR Case 2021-017, Cyber Threat and Incident Reporting and Information Sharing [9000-AO34]

Legal Authority: 40 U.S.C. 121(c); 10 U.S.C. ch. 4; 10 U.S.C. ch. 137 legacy provisions; 10 U.S.C. 3016; 51 U.S.C. 20113

Abstract: This rule will authorize agencies to increase the sharing of information about cyber threats and incident information between Government and certain providers. In addition, this rule will require certain contractors to report cyber incidents to the Federal Government to facilitate effective cyber incident response and remediation. This rule is being issued pursuant to recommendations from the Office of Management and Budget and the Department of Homeland Security in accordance with sections 2(b), 2(c), 2(g)(i), and 8(b), of the Executive Order 14028 titled “Improving the Nation's Cybersecurity.”

Timetable:

Action | Date | FR Cite
NPRM | 10/03/23 | 88 FR 68055
NPRM Comment Period Extended | 11/01/23 | 88 FR 74970
NPRM Comment Period End | 12/04/23
NPRM Comment Period Extended End | 02/02/24

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO34

479. Federal Acquisition Regulation (FAR); FAR Case 2021-019, Standardizing Cybersecurity Requirements for Unclassified Information Systems [9000-AO35]

Legal Authority: 40 U.S.C. 121(c); 10 U.S.C. ch. 4; 10 U.S.C. ch. 137 legacy provisions; 10 U.S.C. 3016; 51 U.S.C. 20113

Abstract: This rule will ensure Federal information systems are better positioned to protect from cybersecurity threats by standardizing common cybersecurity contractual requirements across agencies for unclassified Federal information systems. This rule is being issued to implement Department of Homeland Security recommendations in accordance with sections 2(i) and 8(b) of the Executive Order 14028 titled “Improving the Nation's Cybersecurity.”

Timetable:

Action | Date | FR Cite
NPRM | 10/03/23 | 88 FR 68402
NPRM Comment Period Extended | 11/01/23 | 88 FR 74970
NPRM Comment Period End | 12/04/23
NPRM Comment Period Extension End | 02/02/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO35

480. Federal Acquisition Regulations (FAR); FAR Case 2021-020, Limitations on Subcontracting [9000-AO36]

Legal Authority: 40 U.S.C. 121(c); 10 U.S.C. ch. 4; 10 U.S.C. ch. 137 legacy provisions; 10 U.S.C. 3016; 51 U.S.C. 20113

Abstract: This rule will update the limitations on subcontracting for small business concerns by revising or clarifying: (1) the exclusion of indirect costs from the limitation on subcontracting for services, (2) the application of the limitations on subcontracting to similarly situated entities, (3) the application of the nonmanufacturer rule to kit assemblers, and (4) the application of the limitation on subcontracting to construction contracts that also contain supplies and/or services. This rule is being issued in accordance with section 1651 of the National Defense Authorization Act for Fiscal Year 2013; and the Small Business Administration final rules published on May 31, 2016, November 29, 2019, and October 16, 2020.

Timetable:

Action | Date | FR Cite
NPRM | 11/00/23
NPRM Comment Period End | 01/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO36

481. Federal Acquisition Regulation (FAR); FAR Case 2022-004, Enhanced Price Preferences for Critical Items [9000-AO41]

Legal Authority: 40 U.S.C. 121(c); 10 U.S.C ch. 4; 10 U.S.C ch. 137 legacy provisions; 10 U.S.C 3016; 51 U.S.C. 20113

Abstract: This rule will add a list of critical items and their associated enhanced price preferences to the Federal Acquisition Regulation (FAR), which will apply to acquisitions subject to the Buy American statute. The rule will also provide further guidance to contracting officers on how to evaluate offers for critical items and provide for a post-award reporting requirement for contractors. This rule will complete the framework added to the FAR as part of the implementation of section 8 of the Executive Order titled “Ensuring the Future Is Made in All of America by All of America's Workers.”

Timetable:

Action | Date | FR Cite
NPRM | 01/00/24
NPRM Comment Period End | 03/00/24

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO41

482. Federal Acquisition Regulation (FAR); FAR Case 2022-009, Certification of Service-Disabled Veteran-Owned Small Businesses [9000-AO46]

Legal Authority: 40 U.S.C. 121(c); 10 U.S.C. ch. 4; 10 U.S.C. ch. 137 legacy provisions; 10 U.S.C. 3016; 51 U.S.C. 20113

Abstract: This rule will clarify the certification requirements for Service Disabled Veteran Owned Small Business (SDVOSB) concerns to be eligible for the award of a sole source or set-aside SDVOSB contract. This rule is being issued in accordance with section 862 of the National Defense Authorization Act (NDAA) for Fiscal Year (FY) 2021, as implemented by the Small Business Administration (SBA) final rules published on November 22, 2022, and July 3, 2023; and section 863 of the NDAA for FY 2022, as implemented by the SBA final rule published on April 27, 2023.

Timetable:

Action | Date | FR Cite
NPRM | 11/00/23
NPRM Comment Period End | 01/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO46

483. Federal Acquisition Regulation (FAR); FAR Case 2023-002, Supply Chain Software Security [9000-AO49]

Legal Authority: 40 U.S.C. 121(c); 10 U.S.C. ch. 4; 10 U.S.C. ch. 137 legacy provisions; 10 U.S.C. 3016; 51 U.S.C. 20113

Abstract: This rule will require suppliers of software available for purchase by Federal agencies to comply with, and attest to complying with, applicable secure software development practices. This rule is being issued in accordance with section 4(n) and 4(k) of the Executive Order 14028 titled “Improving the Nation's Cybersecurity” and Office of Management and Budget Memorandum 22-18 and 23-16.

Timetable:

Action | Date | FR Cite
NPRM | 12/00/23
NPRM Comment Period End | 02/00/24

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO49

484. Federal Acquisition Regulation (FAR); FAR Case 2023-001, Subcontracting to Puerto Rican and Covered Territory Small Businesses [9000-AO50]

Legal Authority: 40 U.S.C. 121(c); 10 U.S.C. ch. 4; 10 U.S.C. ch. 137 legacy provisions; 10 U.S.C. 3016; 51 U.S.C. 20113

Abstract: This rule will (1) provide contracting incentives to mentors that subcontract to protege firms that are Puerto Rican or another covered territory business; (2) reaffirm that contractors may rely on the self-certification of their subcontractors; and (2) specify that an Alaska Native Corporation owned firm that does not individually qualify as small but counts as a small business for subcontracting goaling purposes, is not required to submit a subcontracting plan. This rule is being issued in accordance with section 861 of the National Defense Authorization Act (NDAA) for Fiscal Year (FY) 2019, as implemented by the Small Business Administration (SBA) final rule published on October 16, 2020, and section 866 of the NDAA for FY 2021, as implemented by the SBA final rule published on August 9, 2022.

Timetable:

Action | Date | FR Cite
NPRM | 01/00/24
NPRM Comment Period End | 03/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO50

485. Federal Acquisition Regulation (FAR); FAR Case 2023-003, Prohibition on the Use of Reverse Auctions for Complex, Specialized, or Substantial Design and Construction Services [9000-AO51]

Legal Authority: 40 U.S.C. 121(c); 10 U.S.C. ch. 4; 10 U.S.C. ch. 137 legacy provisions; 10 U.S.C. 3016; 51 U.S.C. 20113

Abstract: This rule will prohibit the use of a reverse auction for the award of a contract for complex, specialized, or substantial design and construction services. The prohibition is the result of the Construction Consensus Procurement Improvement Act of 2021, which amended the Consolidated Appropriations Act, 2020, to correct a provision on the prohibition on the use of a reverse auction.

Timetable:

Action | Date | FR Cite
NPRM | 03/00/24
NPRM Comment Period End | 05/00/24

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AO51

486. Federal Acquisition Regulation (FAR); FAR Case 2023-006, Preventing Organizational Conflicts of Interest in Federal Acquisition [9000-AO54]

Legal Authority: 40 U.S.C. 121(c); 10 U.S.C. ch. 4; 10 U.S.C. ch. 137 legacy provisions; 10 U.S.C. 3016; 51 U.S.C. 20113

Abstract: This rule will provide and update definitions, guidance, and examples related to organizational conflicts of interest (OCI), including the creation of solicitation provisions and contract clauses to avoid or mitigate OCI, that require contractors to disclose information relevant to potential OCI and limit future contracting. The rule will also permit contracting officers to take into consideration professional standards and procedures to prevent OCI to which an offeror or contractor is subject. This rule is being issued in accordance with the Preventing Organizational Conflicts of Interest in Federal Acquisition Act.

Timetable:

Action | Date | FR Cite
NPRM | 03/00/24
NPRM Comment Period End | 05/00/24

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO54

487. • Federal Acquisition Regulation (FAR); FAR Case 2023-016, Subcontracting Plans and Limitations on Subcontracting [9000-AO60]

Legal Authority: 40 U.S.C. 121(c); 10 U.S.C. ch. 4; 10 U.S.C. ch. 137 legacy provisions; 10 U.S.C. 3016; 51 U.S.C. 20113

Abstract: This rule will make changes to the limitations on subcontracting, the nonmanufacturer rule, and subcontracting plans. Changes will be made in areas such as: the time period used to determine compliance with applicable limitations on subcontracting for certain contracts; past performance evaluations for concerns exceeding the limitations on subcontracting; nonmanufacturer waivers for multi-item procurements and limitations on the effective period of an individual nonmanufacturer waiver; the time period in which an approved commercial subcontracting plan is effective; the indirect costs to be included in subcontracting goals; and the costs to be included or excluded in the contractor's calculation of the subcontracting base. This rule implements regulatory changes made in the Small Business Administration's final rule published in April 27, 2023.

Timetable:

Action | Date | FR Cite
NPRM | 10/00/24
NPRM Comment Period End | 12/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO60

488. • Federal Acquisition Regulation (FAR); FAR Case 2023-017, Consolidation and Bundling [9000-AO61]

Legal Authority: 40 U.S.C. 121(c); 10 U.S.C. ch. 4; 10 U.S.C. ch. 137 legacy provisions; 10 U.S.C. 3016; 51 U.S.C. 20113

Abstract: This rule will add blanket purchase agreements and orders placed against unrestricted multiple-award contracts to the list of contract vehicles covered by the definition of consolidation and bundling; clarify that the definition of consolidation and bundling applies when additional scope is added to a solicitation, contract, or agreement; and add to the analysis requirements of an acquisition strategy for a bundled contract. This rule implements statutory requirements as implemented by the Small Business Administration's final rule published April 27, 2023.

Timetable:

Action | Date | FR Cite
NPRM | 07/00/24
NPRM Comment Period End | 09/00/24

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO61

489. • Federal Acquisition Regulation (FAR); FAR Case 2023-013, Hubzone Program [9000-AO63]

Legal Authority: 40 U.S.C. 121(c); 10 U.S.C. ch. 4; 10 U.S.C. ch. 137 legacy provisions; 10 U.S.C. 3016; 51 U.S.C. 20113

Abstract: This rule will authorize the Small Business Administration (SBA) Office of Hearings and Appeals to decide all appeals from formal protest determinations in connection with the status of a Historically Underutilized Business Zone (HUBZone) small business concern. Additionally, this rule proposes to remove the representation for HUBZone small business concerns as these concerns are required to be certified by SBA. This rule implements statutory requirements as implemented by the SBA's final rule published April 10, 2023.

Timetable:

Action | Date | FR Cite
NPRM | 01/00/24
NPRM Comment Period End | 03/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO63

490. • Federal Acquisition Regulation (FAR); FAR Case 2023-015, Policy on Joint Ventures [9000-AO64]

Legal Authority: 40 U.S.C. 121(c); 10 U.S.C. ch. 4; 10 U.S.C. ch. 137 legacy provisions; 10 U.S.C. 3016; 51 U.S.C. 20113

Abstract: This rule will make changes to the requirements for small business joint ventures. Changes will be made to the recertification requirements for joint ventures and mentor-protégé joint ventures, to specify that a joint venture partner cannot be a partner to multiple joint ventures that intend to submit offers in response to a solicitation; and the time period in which a joint venture is eligible for award. This rule implements the Small Business Administration's final rule published April 27,2023.

Timetable:

Action | Date | FR Cite
NPRM | 08/00/24
NPRM Comment Period End | 10/00/24

Regulatory Flexibility Analysis Required: Yes.

Agency Contact: Carrie Moore, Procurement Analyst, DOD/GSA/NASA (FAR), 1800 F Street NW, Washington, DC 20405, Phone: 571 300-5917, Email: carrie.moore@gsa.gov.

RIN: 9000-AO64

491. • Federal Acquisition Regulation (FAR); FAR Case 2023-014, Small Business Protests [9000-AO65]

Legal Authority: 0 U.S.C. 121(c); 10 U.S.C. ch. 4; 10 U.S.C. ch. 137 legacy provisions; 10 U.S.C. 3016; 51 U.S.C. 20113

Abstract: This rule will clarify the parties that may protest the size and/or socioeconomic status of a small business concern, specify the deadlines for submitting a protest, add the Small Business Administration (SBA) Associate General Counsel for Procurement Law to the list of parties than can request a formal size determination, and make other clarifying amendments regarding small business protest procedures. This rule will implement the SBA's final rule published April 2023 which implemented section 863 of the National Defense Authorization Act for fiscal year 2022.

Timetable:

Action | Date | FR Cite
NPRM | 05/00/24
NPRM Comment Period End | 07/00/24

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO65

DEPARTMENT OF DEFENSE/GENERAL SERVICES ADMINISTRATION/NATIONAL AERONAUTICS AND SPACE ADMINISTRATION (FAR)

Final Rule Stage

492. FAR Acquisition Regulation (FAR); FAR Case 2015-038, Reverse Auction Guidance [9000-AN31]

Legal Authority: 40 U.S.C. 121(c); 10 U.S.C. ch. 4; 10 U.S.C. ch. 137 legacy provisions; 10 U.S.C. 3016; 51 U.S.C. 20113

Abstract: This rule will create standard governmentwide policies addressing the effective use of reverse auctions. Reverse auctions are a tool used by Federal agencies to obtain competitive prices for an acquisition. Reverse auctions differ from traditional auctions in that sellers compete against one another to provide the lowest price or highest-value offer to a buyer. This rule will incorporate guidance from the Office of Federal Procurement Policy memorandum, Effective Use of Reverse Auctions,” which was issued in response to recommendations from the Government Accountability Office (GAO) report, Reverse Auctions: Guidance is Needed to Maximize Competition and Achieve Cost Savings” (GAO-14-108).

Timetable:

Action | Date | FR Cite
NPRM | 12/07/20 | 85 FR 78815
NPRM Comment Period End | 02/05/21
Final Rule | 11/00/23

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AN31

493. Federal Acquisition Regulation (FAR); FAR Case 2018-017, Prohibition on Certain Telecommunications and Video Surveillance Services or Equipment [9000-AN83]

Legal Authority: 40 U.S.C. 121(c); 10 U.S.C. ch. 4; 10 U.S.C. ch. 137 legacy provisions; 10 U.S.C. 3016; 51 U.S.C. 20113

Abstract: This rule will finalize an interim rule that prohibits the Government from procuring covered telecommunications equipment and services from Huawei Technologies Company, ZTE Corporation, Hytera Communications Corporation, Hangzhou Technology Company, or Dahua Technology Company, to include any subsidiaries or affiliates. The FAR provisions require that an offeror represent at an entity level in SAM, and if applicable on an offer-by-offer basis, if the offeror will or will not provide any covered telecommunications equipment or services to the Government. If an offeror responds in an offer that it will provide covered telecommunications, the offeror will need to provide additional disclosures. This FAR rule protects U.S. networks against cyber activities conducted through Chinese Government-supported telecommunications equipment and services. This rule is being issued in accordance with section 889 (a)(1)(A) of the National Defense Authorization Act for Fiscal Year 2019. Paragraph (a)(1)(B) of section 889 is being implemented separately through FAR Case 2019-009. DoD, GSA and NASA received public comments in response to the interim rules published in August and December of 2019, which are being considered in the development of the final rule.

Timetable:

Action | Date | FR Cite
Interim Final Rule | 08/13/19 | 84 FR 40216
Interim Final Rule Comment Period End | 10/15/19
Interim Final Rule | 12/13/19 | 84 FR 68314
Interim Final Rule Effective | 12/13/19
Interim Final Rule Comment Period End | 02/11/20
Final Rule | 07/00/24

Regulatory Flexibility Analysis Required: Yes.

Agency Contact: FAR Policy, DOD/GSA/NASA (FAR), 1800 F Street NW, Washington, DC 20405, Phone: 202 969-4075, Email: farpolicy@gsa.gov.

RIN: 9000-AN83

494. Federal Acquisition Regulation (FAR); FAR Case 2019-009, Prohibition on Contracting With Entities Using Certain Telecommunications and Video Surveillance Services or Equipment [9000-AN92]

Legal Authority: 40 U.S.C. 121(c); 10 U.S.C. ch. 4; 10 U.S.C. ch. 137 legacy provisions; 10 U.S.C. 3016; 51 U.S.C. 20113

Abstract: This rule will finalize an interim rule that prohibits the Government from entering into a contract or extending or renewing a contract with an entity that uses any equipment, system, or service that uses covered telecommunications equipment and services from Huawei Technologies Company, ZTE Corporation, Hytera Communications Corporation, Hangzhou Technology Company, or Dahua Technology Company, to include any subsidiaries or affiliates. This FAR rule protects U.S. networks against cyber activities conducted through Chinese Government-supported telecommunications equipment and services. This rule is being issued in accordance with paragraph (a)(1)(B) of section 889 of the National Defense Authorization Act for Fiscal Year 2019. Paragraph (a)(1)(A) of section 889 is being implemented separately through FAR Case 2018-017. DoD, GSA and NASA received public comments in response to the interim rules published in July and August of 2020, which are being considered in the development of the final rule.

Timetable:

Action | Date | FR Cite
Interim Final Rule | 07/14/20 | 85 FR 42665
Interim Final Rule Effective | 08/13/20
Interim Final Rule | 08/27/20 | 85 FR 53126
Interim Final Rule Comment Period End | 09/14/20
Interim Final Rule Comment Period End | 10/26/20
Interim Final Rule Effective | 10/26/20
Final Rule | 07/00/24

Regulatory Flexibility Analysis Required: Yes.

Agency Contact: FAR Policy, DOD/GSA/NASA (FAR), 1800 F Street NW, Washington, DC 20405, Phone: 202 969-4075, Email: farpolicy@gsa.gov.

RIN: 9000-AN92

495. Federal Acquisition Regulation (FAR); FAR Case 2020-005, Explanations to Unsuccessful Offerors on Certain Orders Under Task and Delivery Order Contracts [9000-AO08]

Legal Authority: 40 U.S.C. 121(c); 10 U.S.C. ch. 4; 10 U.S.C. ch. 137 legacy provisions; 10 U.S.C. 3016; 51 U.S.C. 20113

Abstract: This rule will provide unsuccessful offerors for certain task or delivery orders the opportunity to request in writing an explanation as to why the offeror was unsuccessful. Contracting officers are required to provide a brief explanation in response to a written request, which includes the rationale for award and an evaluation of the significant weak or deficient factors in the offeror's offer. This rule is being issued in accordance with section 874 of the National Defense Authorization Act for Fiscal Year 2020.

Timetable:

Action | Date | FR Cite
NPRM | 08/09/23 | 88 FR 53855
NPRM Comment Period End | 10/10/23
Final Rule | 06/00/24

Regulatory Flexibility Analysis Required: Yes.

Agency Contact: Michael O. Jackson, Procurement Analyst, DOD/GSA/NASA (FAR), 1800 F Street NW, Washington, DC 20405, Phone: 202 208-4949, Email: michaelo.jackson@gsa.gov.

RIN: 9000-AO08

496. Federal Acquisition Regulation (FAR); FAR Case 2020-010, Small Business Innovation Research and Technology Transfer Programs [9000-AO12]

Legal Authority: 40 U.S.C. 121(c); 10 U.S.C. ch. 4; 10 U.S.C. ch. 137 legacy provisions; 10 U.S.C. 3016; 51 U.S.C. 20113

Abstract: This rule will add references to the Small Business Administration's Small Business Technology Transfer (STTR) program, acknowledge the unique competition requirements for phase III contracts under the Small Business Innovation Research (SBIR) and STTR programs, and revise definitions, allocation of rights, protection period, rights notice, and data rights marking provisions related to the SBIR/STTR programs. This rule is being issued in accordance with the Small Business Administration SBIR and STTR Policy Directive issued May 2, 2019 and section 9 of the Small Business Act.

Timetable:

Action | Date | FR Cite
NPRM | 04/07/23 | 88 FR 20822
NPRM Comment Period End | 06/06/23
Final Rule | 06/00/24

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO12

497. Federal Acquisition Regulation (FAR); FAR 2020-011, Implementation of Federal Acquisition Supply Chain Security Act (FASCSA) Exclusion Orders [9000-AO13]

Legal Authority: 40 U.S.C. 121(c); 10 U.S.C. ch. 4; 10 U.S.C. ch. 137 legacy provisions; 10 U.S.C. 3016; 51 U.S.C. 20113

Abstract: This rule will protect national security by excluding or removing certain covered products, services, or sources from the Federal supply chain through the issuance of exclusion and removal orders. This rule is being issued pursuant to section 202 of the Strengthening and Enhancing Cyber-capabilities by Utilizing Risk Exposure (SECURE) Technology Act and the Federal Acquisition Security Council (FASC) rule published on August 26, 2021.

Timetable:

Action | Date | FR Cite
Interim Final Rule | 10/05/23 | 88 FR 69503
Interim Final Rule Comment Period End | 12/04/23
Interim Final Rule Effective | 12/04/23

Regulatory Flexibility Analysis Required: Yes.

Agency Contact: Marissa Ryba, Procurement Analyst, DOD/GSA/NASA (FAR), 1800 F Street NW, Washington, DC 20405, Phone: 314 586-1280, Email: marissa.ryba@gsa.gov.

RIN: 9000-AO13

498. Federal Acquisition Regulation (FAR); FAR Case 2021-014, Increasing the Minimum Wage for Contractors [9000-AO31]

Legal Authority: 40 U.S.C. 121(c); 10 U.S.C. ch. 4; 10 U.S.C. ch. 137 legacy provisions; 10 U.S.C. 3016; 51 U.S.C. 20113

Abstract: This rule will finalize an interim rule that increased the minimum wage to be paid to employees of certain contractors of the Federal Government to $15.00. This rule is being issued in accordance with the Executive Order 14030 titled “Increasing the Minimum Wage for Federal Contractors”, dated April 27, 2021, and Department of Labor's implementing regulations.

Timetable:

Action | Date | FR Cite
Interim Final Rule | 01/26/22 | 87 FR 4117
Interim Final Rule Comment Period End | 03/28/22
Final Rule | 03/00/24

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO31

499. Federal Acquisition Regulation (FAR); FAR Case 2021-015, Disclosure of Greenhouse Gas Emissions and Climate-Related Financial Risk [9000-AO32]

Legal Authority: 40 U.S.C. 121(c); 10 U.S.C. ch. 4; 10 U.S.C. ch. 137 legacy provisions; 10 U.S.C. 3016; 51 U.S.C. 20113

Abstract: This rule will require certain Federal contractors to publicly disclose their annual greenhouse gas emissions. Some Federal contractors will also be required to disclose their climate-related financial risk and to set science-based targets for reducing their greenhouse gas emissions. This rule is being issued in accordance with section 5(b)(i) of the Executive Order 14030 titled “Climate-Related Financial Risk.” DoD, GSA, and NASA received public comments in response to the proposed rule published in November of 2022, which are being considered in the development of the final rule.

Timetable:

Action | Date | FR Cite
NPRM | 11/14/22 | 87 FR 68312
Comment Period Extended | 12/23/22 | 87 FR 78910
NPRM Comment Period End | 01/13/23
Final Rule | 04/00/24

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO32

500. Federal Acquisition Regulation (FAR); FAR Case 2022-003, Use of Project Labor Agreement for Federal Construction Projects [9000-AO40]

Legal Authority: 40 U.S.C. 121(c); 10 U.S.C. ch.; 10 U.S.C. ch. 137 legacy provisions; 10 U.S.C. 3016; 51 U.S.C. 20113

Abstract: This rule will require the use of project labor agreements for large-scale construction projects with a total estimated value of $35 million or more. The Federal Acquisition Regulation (FAR) will continue to provide discretionary use of a project labor agreement on construction projects that do not meet the definition of large-scale construction projects. This rule is being issued in accordance with the Executive Order 14063 titled “Use of Project Labor Agreements for Federal Construction Projects” issued February 4, 2022. DoD, GSA, and NASA received public comments in response to the proposed rule published in August of 2022, which are being considered in the development of the final rule.

Timetable:

Action | Date | FR Cite
NPRM | 08/19/22 | 87 FR 51044
NPRM Comment Period End | 10/18/22
Final Rule | 12/00/23

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO40

501. Federal Acquisition Regulation (FAR); FAR Case 2022-006, Sustainable Procurement [9000-AO43]

Legal Authority: 40 U.S.C. 121(c); 10 U.S.C. ch. 4; 10 U.S.C. ch. 137 legacy provisions; 10 U.S.C. 3016; 51 U.S.C. 20113

Abstract: This rule will require Federal contractors to provide sustainable products and services to the maximum extent practicable under Federal contracts. This rule will also reorganize and streamline FAR part 23 to focus on current environmental matters. This rule implements the Executive Order 14057 titled “Catalyzing Clean Energy Industries and Jobs Through Federal Sustainability,” and Office of Management and Budget Memorandum M-22-06. DoD, GSA, and NASA received public comments in response to the proposed rule published in August of 2023, which are being considered in the development of the final rule.

Timetable:

Action | Date | FR Cite
NPRM | 08/03/23 | 88 FR 51672
NPRM Comment Period End | 10/02/23
Final Rule | 04/00/24

Regulatory Flexibility Analysis Required: Yes.

Agency Contact: Jennifer Hawes, Procurement Analyst, DOD/GSA/NASA (FAR), 1800 F Street NW, Washington, DC 20405, Phone: 202 969-7386, Email: jennifer.hawes@gsa.gov.

RIN: 9000-AO43

502. Federal Acquisition Regulation (FAR): FAR Case 2022-011, Nondisplacement of Qualified Workers Under Service Contracts [9000-AO48]

Legal Authority: 40 U.S.C. 121(c); 10 U.S.C. ch. 4; 10 U.S.C. ch. 137 legacy provisions; 10 U.S.C. 3016; 51 U.S.C. 20113

Abstract: This rule will require that service contracts which succeed contracts for the same or similar services, and solicitations for such contracts, include a non-displacement clause. The non-displacement clause will require the contractor and its subcontractors to offer qualified employees employed under the predecessor contract a right of first refusal of employment under the successor contract. This rule is being issued in accordance with the Executive Order 14055 titled “Nondisplacement of Qualified Workers Under Service Contracts,” dated November 18, 2021 and Department of Labor's implementing regulations.

Timetable:

Action | Date | FR Cite
Interim Final Rule | 12/00/23
Interim Final Rule Comment Period End | 02/00/24

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AO48

503. FAR Case 2023-010, Prohibition on a Bytedance Covered Application [9000-AO58]

Legal Authority: 40 U.S.C. 121(c); 10 U.S.C. ch. 4; 10 U.S.C. ch. 137 legacy provisions; 10 U.S.C. 3016; 51 U.S.C. 20113

Abstract: This rule prohibits executive agencies from having or using the social networking service TikTok, developed or provided by ByteDance Limited, on any information technology owned or managed by the Government. This policy is being implemented as a national security measure to protect Government information and information and communication technology systems pursuant to section 102 of Division R of the Consolidated Appropriations Act, 2023, the No TikTok on Government Devices Act, and its implementing guidance under Office of Management andBudget Memorandum M-23-13, “No TikTok on Government Devices” Implementation Guidance, dated February 27, 2023. DoD, GSA, and NASA received public comments in response to the interim rule published in June of 2023, which are being considered in the development of the final rule.

Timetable:

Action | Date | FR Cite
Interim Final Rule | 06/02/23 | 88 FR 36430
Interim Final Rule Comment Period End | 08/01/23
Final Rule | 05/00/24

Regulatory Flexibility Analysis Required: Yes.

Agency Contact: FAR Policy, DOD/GSA/NASA (FAR), 1800 F Street NW, Washington, DC 20405, Phone: 202 969-4075, Email: farpolicy@gsa.gov.

RIN: 9000-AO58

DEPARTMENT OF DEFENSE/GENERAL SERVICES ADMINISTRATION/NATIONAL AERONAUTICS AND SPACE ADMINISTRATION (FAR)

Long-Term Actions

504. Federal Acquisition Regulation (FAR); FAR Case 2018-013, Exemption of Commercial and COTS Item Contracts From Certain Laws and Regulations [9000-AN72]

Legal Authority: 40 U.S.C. 121(c); 10 U.S.C. ch. 4; 10 U.S.C. ch. 137 legacy provisions; 10 U.S.C. 3016; 51 U.S.C. 20113

Abstract: This rule will attempt to streamline commercial acquisitions by removing certain requirements that currently apply to contracts and subcontracts for commercial products, commercial services, and commercially available off-the-shelf (COTS) items. DoD, GSA and NASA will review existing commercial acquisition requirements that are based in law, Executive Order, or other policies in accordance with section 839 of the National Defense Authorization Act for Fiscal Year 2019, and will identify the requirements to be removed through this rulemaking.

Timetable:

Action | Date | FR Cite
NPRM | 12/00/24
NPRM Comment Period End | 02/00/25

Regulatory Flexibility Analysis Required: Yes.

Agency Contact: Mahruba Uddowla, Procurement Analyst, DOD/GSA/NASA (FAR), 1800 F Street NW, Washington, DC 20405, Phone: 703 605-2868, Email: mahruba.uddowla@gsa.gov.

RIN: 9000-AN72

505. Federal Acquisitions Regulation (FAR); FAR Case 2021-013, Access to Past Performance Information [9000-AO30]

Legal Authority: 40 U.S.C. 121(c); 10 U.S.C. ch. 4; 10 U.S.C. ch. 137 legacy provisions; 10 U.S.C. 3016; 51 U.S.C. 20113

Abstract: This rule will clarify language at FAR 42.1503(d) regarding restrictions on the release of past performance information in the Contractor Performance Assessment Reporting System to other than Government personnel to perform value added services to the Government. Artificial intelligence (e.g., machine learning) may improve the workforce's ability to leverage the use of contractor performance information in informing future contract award decisions and other related efforts.

Timetable:

Action | Date | FR Cite
NPRM | 11/00/24
NPRM Comment Period End | 01/00/25

Regulatory Flexibility Analysis Required: Yes.

Agency Contact: Dana Bowman, Procurement Analyst, DOD/GSA/NASA (FAR), 1800 F Street NW, Washington, DC 20405, Phone: 202 803-3188, Email: dana.bowman@gsa.gov.

RIN: 9000-AO30

DEPARTMENT OF DEFENSE/GENERAL SERVICES ADMINISTRATION/NATIONAL AERONAUTICS AND SPACE ADMINISTRATION (FAR)

Completed Actions

506. Federal Acquisition Regulation (FAR); FAR Case 2017-005, Whistleblower Protection for Contractor Employees [9000-AN32]

Legal Authority: 40 U.S.C. 121(c); 10 U.S.C. ch. 4; 10 U.S.C. ch. 137 legacy provisions; 10 U.S.C. 3016; 51 U.S.C. 20113

Abstract: This rule will make permanent contractor and subcontractor employee protections for disclosing certain information to the Government. The protections prohibit contractors and subcontractors from discharging, demoting, or otherwise discriminating against an employee as a reprisal for disclosing to Government entities, such as agency Inspector Generals and Congress, information that the employee reasonably believes is (1) evidence of gross mismanagement of a Federal contract; (2) a gross waste of Federal funds; (3) an abuse of authority relating to a Federal contract; (4) a substantial and specific danger to public health or safety; or (5) a violation of law, rule, or regulation related to a Federal contract (including the competition for or negotiation of a contract). This rule also ensures that the prohibition on reimbursement for legal fees accrued in defense against reprisal claims applies to both contractors and subcontractors. This rule makes permanent the pilot program in accordance with the “Enhancement of Contractor Protection From Reprisal for Disclosure of Certain Information” law. The pilot was enacted on January 2, 2013, by section 828 of the National Defense Authorization Act for Fiscal Year 2013.DoD, GSA, and NASA received public comments in response to the proposed rule published in December of 2018, which are being considered in the development of the final rule.

Completed:

Reason | Date | FR Cite
Final Rule | 10/25/23 | 88 FR 69517
Final Rule Effective | 11/06/23

Regulatory Flexibility Analysis Required: Yes.

Agency Contact: Malissa Jones, Phone: 571 882-4687, Email: malissa.jones@gsa.gov.

RIN: 9000-AN32

507. Federal Acquisition Regulation (FAR); FAR Case 2017-014, Use of Acquisition 360 To Encourage Vendor Feedback [9000-AN43]

Legal Authority: 40 U.S.C. 121(c); 10 U.S.C. ch. 4; 10 U.S.C. ch. 137 legacy provisions; 10 U.S.C. 3016; 51 U.S.C. 20113

Abstract: DoD, GSA, and NASA are issuing a final rule to amend the Federal Acquisition Regulation (FAR) to address the solicitation of contractor feedback on both contract formation and contract administration activities. Agencies would consider this feedback, as appropriate, to improve the efficiency and effectiveness of their acquisition activities. The rule will create FAR policy to encourage regular feedback in accordance with agency practice (both for contract formation and administration activities) and a standard FAR solicitation provision to support a sustainable model for broadened use of the Acquisition 360 survey to elicit feedback on the pre-award and debriefing processes in a consistent and standardized manner. Agencies will be able to use the solicitation provision to notify interested sources that a procurement is part of the Acquisition 360 survey and encourage stakeholders to voluntarily provide feedback on their experiences of the pre-award process.

Completed:

Reason | Date | FR Cite
Final Rule | 08/08/23 | 88 FR 53748
Final Rule Effective | 09/22/23

Regulatory Flexibility Analysis Required: Yes.

Agency Contact: Zenaida Delgado, Phone: 202 969-7207, Email: zenaida.delgado@gsa.gov.

RIN: 9000-AN43

508. Federal Acquisition Regulation (FAR); FAR Case 2018-024; Use of Interagency Fleet Management System Vehicles and Related Services [9000-AN82]

Legal Authority: 40 U.S.C. 121(c); 10 U.S.C. ch. 137; 51 U.S.C. 20113

Abstract: DoD, GSA, and NASA are withdrawing this rule. A decision was made not to proceed with a proposed rule, since updates to the underlying interagency fleet management regulations are still under development. Accordingly, this proposed rule is withdrawn, and the FAR case is closed.

Completed:

Reason | Date | FR Cite
Withdrawn | 09/14/23

Regulatory Flexibility Analysis Required: Yes.

Agency Contact: Jennifer Hawes, Phone: 202 969-7386, Email: jennifer.hawes@gsa.gov.

RIN: 9000-AN82

509. Federal Acquisition Regulation (FAR); FAR Case 2021-012, 8(A) Program [9000-AO29]

Legal Authority: 40 U.S.C. 121(c); 10 U.S.C. ch. 4; 10 U.S.C. ch. 137 legacy provisions; 10 U.S.C. 3016; 51 U.S.C. 20113

Abstract: This rule will clarify 8(a) program requirements regarding certificates of competency, FAR part 13 blanket purchase agreements and associated orders, 8(a) participant eligibility, and Government appeal and notification requirements, to reduce ambiguities and burdens on 8(a) Participants and procuring activities. This rule promotes equity in Federal procurement. This rule is being issued in accordance with the Small Business Administration final rule published on October 16, 2020. DoD, GSA and NASA received public comments in response to the proposed rule published in December of 2022, which are being considered in the development of the final rule.

Completed:

Reason | Date | FR Cite
Final Rule | 10/05/23 | 88 FR 69523
Final Rule Effective | 11/06/23

Regulatory Flexibility Analysis Required: Yes.

Agency Contact: Dana Bowman, Phone: 202 803-3188, Email: dana.bowman@gsa.gov.

RIN: 9000-AO29

[FR Doc. 2024-00461 Filed 2-8-24; 8:45 am]

BILLING CODE 6820-EP-P